DEPARTMENT OF COMMERCE

National Oceanic and Atmospheric Administration

RIN 0648-XF759

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a half day webinar meeting of its Standing and Reef Fish Scientific and Statistical Committees (SSC).

DATES: The meeting will convene via webinar on Tuesday, October 31, 2017, from 12 p.m. until 5 p.m. EDT.

ADDRESSES: The meeting will be via WEBINAR; you may access the link below and on the Council's Web site.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Tuesday, October 31, 2017, 12 p.m.-5 p.m., EDT

I. Introductions and Adoption of Agenda

II. Approval of Minutes

a. March 27-29, 2017 SSC meeting

b. May 10, 2017 SSC webinar

III. Review of Relevant Legislative Approaches to Recreational Red Snapper Management

IV. SEDAR Activities

a. Status of SEDAR 48—black grouper benchmark assessment

b. FWC Gulf hogfish update assessment—Terms of Reference

c. SEDAR 61 Gulf red grouper standard assessment

i. Terms of reference

ii. Project schedule

iii. Assessment workshop appointments

d. SEDAR 58 Stock ID TORs for cobia

V. A Comparison of Recent Stock Assessment Results Using SS3 vs. DLMToolkit

a. Greater amberjack

b. Gray triggerfish

VI. Review of Framework Action to Modify the ACT for Red Snapper Federal For-Hire and Private Angler Components

VII. Preliminary Discussion on Approaches to estimating Red Snapper Biomass off Each Gulf State

VIII. Other Business

—Meeting Adjourns

You may register for the SSC Meeting: Standing and Reef Fish on or before Tuesday, October 31, 2017 at the link provided below: https://attendee.gotowebinar.com/register/4747113251445458690

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2017-10-webinar”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: October 11, 2017.
Jeffrey N. Lonergan,
Acting Deputy Director, Office of Sustainable Fisheries, National Marine Fisheries Service.

[FR Doc. 2017-22363 Filed 10-13-17; 8:45 am]

BILLING CODE 3510-22-P